DEPARTMENT OF TRANSPORTATION

Federal Motor Carrier Safety Administration

[Docket No. FMCSA-2006-26367]

Motor Carrier Safety Advisory Committee (MCSAC); Public Meeting

AGENCY: Federal Motor Carrier Safety Administration (FMCSA), DOT.

ACTION: Notice of advisory committee meeting.

SUMMARY: FMCSA announces a meeting of the MCSAC, which will take place via videoconference.

DATES: The meeting will be held Monday and Tuesday, July 19 and 20, 2021, from 9:15 a.m. to 4:30 p.m., Eastern Time. Requests for accommodations because of a disability must be received by Friday, July 9, 2021. Requests to submit written materials to be reviewed during the meeting must be received no later than July 9, 2021.

ADDRESSES: The meeting will be held via videoconference. Those members of the public who would like to participate should go to https://www.fmcsa.dot.gov/advisory-committees/mcsac/meetings to access the meeting, task statements, a detailed agenda for the entire meeting, meeting minutes and additional information on the committee and its activities.

FOR FURTHER INFORMATION CONTACT: Ms. Shannon L. Watson, Senior Advisor to the Associate Administrator for Policy, Federal Motor Carrier Safety Administration, U.S. Department of Transportation, 1200 New Jersey Avenue SE, Washington, DC 20590, (202) 360-2925, mcsac@dot.gov. Any committee-related request or submission should be sent via email to the person listed in this section. Information may also be submitted by docket through Docket Number FMCSA-2006-26367 using any of the following methods:

• Federal eRulemaking Portal: Go to http://www.regulations.gov. Follow the online instructions for submitting comments.

• Fax: 202-493-2251.

• Mail: Docket Operations; U.S. Department of Transportation, 1200 New Jersey Avenue SE, Room W12-140, Washington, DC 20590.

• Hand Delivery: Docket Operations, U.S. Department of Transportation, 1200 New Jersey Avenue SE, West Building, Room W12-140, Washington, DC, between 9 a.m. and 5 p.m., E.T. Monday through Friday, except Federal holidays. To be sure someone is there to help you, please call (202) 366-9317 or (202) 366-9826 before visiting Docket Operations.

SUPPLEMENTARY INFORMATION:

I. Background

Purpose of the Committee

MCSAC was established to provide FMCSA with advice and recommendations on motor carrier safety programs and motor carrier safety regulations. MCSAC is composed of up to 25 voting representatives from safety advocacy, safety enforcement, labor, and industry stakeholders of motor carrier safety. The diversity of the Committee ensures the requisite range of views and expertise necessary to discharge its responsibilities. The committee operates as a discretionary committee under the authority of the U.S. Department of Transportation (DOT), established in accordance with the provisions of the Federal Advisory Committee Act (FACA), as amended 5 U.S.C. App. 2.

Meeting Agenda

On Tuesday, the MCSAC will begin considering Task 21-1, relating to supply chains for the transportation industrial base. Task 21-1 will include discussions about workforce skills for the motor carrier sector and identified gaps, opportunities, and potential best practices in meeting the future workforce needs and driver retention for the motor carrier industry, as well as the role of transportation systems in supporting existing supply chains and risks associated with those transportation systems and the safe and efficient transportation of passengers and freight across our Nation. Following its initial consideration of data and presentations on the topic, the MCSAC will engage its Driver Subcommittee for its consideration of workforce needs, at a meeting later this summer.

Additionally, MCSAC will resume consideration of the following issues:

• Task 20-2 will focus on the impact of the aging demographic of the commercial motor vehicle driver workforce on the truck and bus industries and whether this trend will exacerbate the driver shortage problem. Stakeholders have expressed concerns about the need to address the driver shortage, including options for allowing younger drivers to enter the industry. How would an aging workforce impact motor carriers' ability to deliver services and goods safely in interstate commerce? For this task, FMCSA will consider data by agency experts on the distribution of age among CMV drivers.

• Task 20-1 will provide the MCSAC with the opportunity to discuss changes to the package and small goods delivery sector. A number of companies are now using small vehicles (e.g., vehicles with a gross vehicle weight rating less than 10,000 pounds, etc.) to deliver goods and there appears to be a gap in safety oversight of both drivers and vehicles. For this task, members will hear from Agency experts on trends in the Fatality Analysis Reporting System (FARS) and Motor Carrier Management Information System (MCMIS) crash and highway safety data.

II. Meeting Participation

While not required, advance registration is encouraged. To indicate that you will attend, please register at www.fmcsa.dot.gov/mcsac by the deadline referenced in the DATES section. The meeting will be open to the public for its entirety. The U.S. Department of Transportation is committed to providing equal access to this meeting for all participants. If you need alternative formats or services because of a disability, such as sign language, interpretation, or other ancillary aids, please contact the person listed in the FOR FURTHER INFORMATION CONTACT section.

Oral comments from the public will be heard throughout the meeting, at the discretion of the MCSAC chairman and designated federal officer. Additionally, to ensure that all participants have had the opportunity to have their comments heard, the agenda will include a public comment period at the end of each day's session. Members of the public may submit written comments to the person listed in the FOR FURTHER INFORMATION CONTACT section on the topics to be considered during the meeting by the deadline referenced in DATES section. Any member of the public may submit a written statement after the meeting deadline, and it will be presented to the committee.

Larry W. Minor,
Associate Administrator for Policy.

[FR Doc. 2021-14214 Filed 7-1-21; 8:45 am]

BILLING CODE 4910-EX-P